DEPARTMENT OF TRANSPORTATION

Federal Aviation Administration

14 CFR Part 71

National Airspace Redesign—Potential Revisions of Air Traffic Control (ATC) Services, Procedures, and Airspace, Juneau Area, Juneau, AK; Public Meeting 02-AAL-1

AGENCY: Federal Aviation Administration (FAA), DOT.

ACTION: Notice of public meeting.

SUMMARY: The FAA will hold a public meeting in support of the National Airspace Redesign (NAR) on ATC airspace, service, and procedures affecting the Juneau area, Juneau, AK. The objective of this meeting is to provide interested persons an opportunity to review proposed ATC services and procedures that are under consideration in conjunction with the FAA Alaska Region Capstone Program. The overall Capstone goal is to maximize efficiency and improve safety for aircraft operating in the Juneau area. ATC is exploring ways to implement new technology as it becomes certified for use in the National Airspace System.

DATES: The meeting will be on Thursday, March 7, 2002, 5:30 pm to 9:00 pm.

ADDRESSES: Ray Renshaw Room, Guest House Inn and Suites, 1800 Shell Simmons Drive, Juneau, AK, 99801; phone (907) 790-6435.

FOR FURTHER INFORMATION CONTACT: Ray Collins, Federal Aviation Administration, AAL-539, 222 W. 7th Ave., Box #14, Anchorage, AK 99513-7587; telephone: (907) 271-1664; fax: (907) 271-2850; email: ray.collins@faa.gov.

SUPPLEMENTARY INFORMATION:

History and Background

The Alaskan Region's Capstone program is an accelerated effort to improve aviation safety and efficiency through installation of government-furnished Global Positioning System (GPS)-based avionics and data link communications suites. The initial Capstone location was Bethel, Alaska and Capstone activities may be viewed at: http://www.alaska.faa.gov/capstone/. In addition to the avionics suites, Capstone will install a ground infrastructure for weather observation, data link communications, surveillance, and Flight Information Services (FIS) to improve safety. Under Capstone, it is anticipated that most of the commercial aircraft based in the Juneau area will be equipped, on a voluntary basis, with government-furnished avionics; certain other commercial and government aircraft regularly operating in the area will also be equipped. Services provided through the avionics suite will improve the pilot's flight capabilities and situational awareness.

There have been several user meetings concerning expanding the Capstone program into the Juneau area; the most recent have had Air Traffic Division representation that briefed a range of potential ATC services that might be provided using Capstone technology. These range from Bright Radar Indicator Tower Equipment (BRITE) displays in the Juneau airport traffic control tower, surveillance services for IFR aircraft, ground aircraft/vehicle surveillance, enhanced traffic information in the airport traffic area, and search and rescue services from the AFSS in Southeast Alaska.

Today, the National Airspace Redesign mandates a review of airspace and efficiency nationwide. It is the goal of the Alaskan Region's Air Traffic Division to address airspace, ATC Capstone enhancements, and services from an overall systems perspective in the Juneau area.

Meeting Procedures

(a) The meeting will be informal in nature and will be conducted by representatives of the FAA Alaskan Region Air Traffic Division. The meeting will not be formally recorded.

(b) The meeting will be open to all persons on a space-available basis. Every effort was made to provide a meeting site with sufficient capacity for expected participation. There will be neither admission fee nor other charge to attend and participate.

(c) Any person who wishes to present a position paper to FAA representatives pertinent to the revision of ATC services, airspace or procedures may do so.

(d) An official verbatim transcript or minutes of the informal airspace meeting will not be made. However, a list of the attendees, written statements received from attendees during and after the meeting and a digest of discussions during the meeting will be included in the administrative record for the project.

(e) Every reasonable effort will be made to hear all concerns of interested persons consistent with a reasonable closing time for the meeting. Written materials may also be submitted to the team for up to two weeks (14 days) after the close of the meeting.

Agenda

a. Opening remarks and discussion of meeting procedures

b. Presentation of areas under consideration, user feedback, and aircraft airborne avionics equipment:

(1) Tower BRITE-like Display: Tower surveillance display that depicts ADS-B and transponder Mode A/C and Mode S equipped aircraft. Provides situational awareness for tower controllers. DRAWBACK: Unable to see primary target (non-equipped) aircraft and new transponder display technology must be certified prior to use.

(2) Terminal IFR surveillance service: Discussion has taken place within the Air Traffic Division concerning providing “low level” terminal approach control services in the Juneau area to support an IFR structure. As the concept developed, several constraints became obvious: vectors below 5,500 feet MSL are not possible; IFR traffic count does not support the establishment of an approach control facility, and ATC delays, while increasing, are not a significant issue at Juneau. Informal discussion with several operators in the Juneau area reveals these operators do not forsee changes in the way they conduct operations in the near or long term—they operate VFR and do not see this changing. Feedback: will operators equip and fly in an IFR structure.

(3) ARTCC: The potential exists to provide continuous radar like coverage for IFR aircraft operating into and from Juneau. Procedures could possibly be developed to reduce delays using this seamless coverage, however, delays will continue to occur due to terrain limitations effecting aircraft and ATC procedures.

(4) AFSS Display(s): Three areas are under consideration—an airport ground surveillance system where AFSS personnel will be able to “see” equipped aircraft and vehicles operating on the ground when the tower is closed; a BRITE type display where specialist can “see” equipped aircraft operating in the pattern area when the tower is closed; a monitor system where ADS-B aircraft are displayed and are able to be located at the last known position in the event contact is lost. The AFSS display(s) are contingent on aircraft/vehicle equipage. Additionally, use of display equipment is a significant departure from established FSS functions and extensive coordination and approval with FAA Headquarters and the workforce would be required. Finally, there are technical challenges ahead for any automated flight following system.

(5) Airspace: Currently, Juneau has Class D airspace. Expansion or change to this airspace is not anticipated, however, this meeting is part of the National Airspace Review process.

(c) Question and answer period.

(d) Closing comments.

* * * * *

Issued in Anchorage, AK, on January 11, 2002.
Stephen P. Creamer,
Assistant Manager, Air Traffic Division, Alaskan Region.

[FR Doc. 02-1508 Filed 1-18-02; 8:45 am]

BILLING CODE 4910-13-P